FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Uraycar Transport Services, Inc., 87 Madison Avenue, Irvington, NJ 07111, Officers: Elhu M. Nisbett, President (Qualifying Individual), Louis W. Nisbett, Vice President

Cargo Exprress International Shipping, Inc., 3010 Eastchester Road, Bronx, NY 10469, Officer: Erol Lewis, President (Qualifying Individual)

Global Ocean Freight, Inc., 4634 N. University Drive, Lauderhill, FL 33351-5733, Officers: Eti Cohen, Vice President (Qualifying Individual), Arik Y. Cohen, President

Hye Mi Express U.S.A., Inc., 3545 McCall Place, Suite A, Officers: Yong J. Kim, Managing Director (Qualifying Individual), Seung Ku Cho, President

Quality One International Shipping Inc., 3817 Dyre Avenue, Bronx, NY 10466, Officer: Howard Leslie, President, (Qualifying Individual)

AAA Cargo LLC dba AAA Cargo Express LLC, 14536 Roscoe Blvd., Suite #101, Panorama City, CA 91402, Officers: Jake J. Son, President (Qualifying Individual), Belen Mercano, Vice President/Treasurer

Non-Vessel Operating Common Carrier and Ocean Freight Forwarder Transportation Intermediary Applicants:

Caribbean Freight Forwarders, 4715 NW 72 Avenue, Miami, FL 33166, Officers: William Abbadie, President (Qualifying Individual), Maricel Abbadie, Vice President, Ofer Prori, CEO

All International Solutions Inc. dba All International Solutions, 8622 Bellanca Avenue, Suite G, Los Angeles, CA 90045, Officer: Alexis F. Robin, CEO (Qualifing Individual)

Ocean Freight Forwarder—Ocean Transportation Intermediary Applicants:

Senator International Freight Forwarding LLC, 5148 Kennedy Road, Suite 700, Forest Park, GA 30297, Officers: Lorne Neal, C.O.O. (Qualifying Individual), Uwe Kirschbaum, President

AG International, 3300 West McGraw Street, #225, Seattle, WA 98199, George Aoyama, Sole Proprietor

Airmar Global International, 5126 S. State Road 7, Ft. Lauderdale, FL 33314, Officers: Germaine Indacochea, Vice President (Qualifying Individual), Andres Indacochea, President

Independent Brokerage, LLC, 800 Atlanta South Parkway, Suite 100, Atlanta, GA 30349, Officers: Robin T. Craig, Vice President (Qualifying Individual), Melody Kersey, President

Dated: May 16, 2003.
Bryant L. VanBrakle,
Secretary.

[FR Doc. 03-12749 Filed 5-20-03; 8:45 am]

BILLING CODE 6730-01-P